DEPARTMENT OF COMMERCE

International Trade Administration

Aerospace Executive Service Trade Mission at Singapore Air Show

AGENCY: International Trade Administration, Department of Commerce.

ACTION: Notice.

Mission Description

The United States Department of Commerce, International Trade Administration, U.S. and Foreign Commercial Service is organizing an Aerospace Executive Service Trade Mission (AESTM) to Singapore in conjunction with the Singapore Airshow 2012 (http://www.singaporeairshow.com.sg).

The AESTM is designed to include participants from a variety of U.S. aerospace-industry manufacturers and service providers. The mission participants will be introduced to international agents, distributors and end-users whose capabilities are targeted to each U.S. participant's needs. Mission participants will also be briefed by key local industry leaders who can advise on local market conditions and opportunities.

In addition to the above-mentioned services, the Commercial Service will again bring its AsiaNow Showtime program to the Singapore Air Show, through which mission participants can meet one-on-one with Commercial Service aerospace and defense industry specialists from country markets throughout Asia. The industry specialists will be on hand to discuss market trends and opportunities in their respective markets.

Commercial Setting

The Singapore Air Show (SAS) is Asia's largest aerospace and defense event and one of the top three air shows in the world, serving as an international marketplace and networking platform for the global aerospace community. Encompassing all civil and military sectors of the international aerospace industry, the SAS is the foremost platform for companies to showcase their products and services in the Asia-Pacific region. The 2010 SAS featured over 43,000 trade attendees from 133 countries, participation from 897 companies from 36 countries and closed with deals and announcements worth US $10 billion.

Asia Pacific is widely considered the most promising market for the aerospace industry worldwide. As a leading global aviation hub in Asia Pacific, Singapore (the U.S.' 10th largest export market in 2010) is well positioned to take advantage of growth opportunities stemming from the region's brisk international trade, tourism and investments. U.S. aerospace firms looking to establish or expand business in Singapore and other markets in this dynamic region stand to benefit from participation in the AESTM in the context of the Singapore Air Show, which is the region's largest air show.

Singapore is the 8th largest market for U.S. aerospace exports. In 2010, U.S. aerospace exports were $3.5 billion, a 37% increase from 2009 ($2.7 billion). Singapore is the regional leader in aerospace maintenance, repair and overhaul (MRO), manufacturing, and research and development. Since 1992, Singapore's aerospace industry production has grown at an average rate of 13.3%, to become the most comprehensive MRO hub in Asia.

Aerospace is one of the fastest-growing industries in Singapore, and the long-term outlook remains positive. According to Frost and Sullivan, the business research and consulting firm, the Asia Pacific aviation industry is experiencing a faster recovery than anticipated. In fact, Frost and Sullivan states that the core of aerospace MRO activity is shifting towards Asia. This has created a market climate where Asian economies are leading the pace of aviation recovery. Asia Pacific is expected to dominate about 40% (U.S. $270 billion) of the global airline revenue by 2020. The cargo business has also shown equally buoyant growth, with Asia being one of the major hubs of the air freight business. Also, the rising GDP rates across Asia and the increasing disposable income of the population will lead to higher demand from commercial passengers. Singapore is particularly well-equipped to capture the demand from aviation-related services from this market given its MRO hub status, which will translate into greater opportunities for American suppliers to sell to this lucrative market and beyond.

Mission Goals

The goal of the Aerospace Executive Service at the 2012 Singapore Air Show is to promote U.S. exports. To this end, the AESTM will facilitate an effective presence for small- and medium-sized U.S. companies by combining aspects of a trade mission, trade show presence and networking activities in one package.

The AESTM Program enables U.S. aerospace companies to familiarize themselves with this important trade fair, to conduct market research and to explore export opportunities through pre-arranged meetings with potential partners. The Aerospace Executive Service also allows U.S. companies to have a presence at the show in the form of kiosk space, providing them an enhanced image and an extended level of engagement at the show site. AESTM participants will be supported by knowledgeable Commercial Service specialists familiar with the firms' objectives and with the Asian aerospace market.

Mission Scenario

Within the U.S. Pavilion at the 2012 Singapore Air Show, the Commercial Service will maintain a 64-square-meter booth that will include 36 square meters of kiosk space for the mission participants, where they can display company literature and conduct meetings with visitors to the air show, including buyer delegations recruited by Commercial Service staff in other Pacific Rim countries under the AsiaNow program. The Commercial Service booth will also house an area for meetings with Commercial Service staff and a Business Information Office (BIO) reception area (28 square meters). Commercial Service staff and the AES coordinator will be available to provide information and assistance throughout the duration of the AESTM at the Singapore Air Show. They will also promote and refer interested parties to AESTM participants.

In summary, participation in the AESTM Program includes:

• Pre-show breakfast briefing on February 13 (U.S. Ambassador to Singapore will be invited to be the lead presenter along with industry representatives);

• Daily transportation to and from AESTM hotel and Singapore Air Show;

• Pre-scheduled meetings with potential partners, distributors, and end users recruited by the Commercial Service;

• One show entry pass per company representative;

• Participation in U.S. Exhibitors Welcome Reception;

• One invitation to the U.S. VIP reception per participant;

• Access to Official U.S. Pavilion/BIO amenities, including meeting area and shared business center when not in use for AsiaNow one-on-one appointments;

• Individual kiosk space (3.0 m²) within the U.S. Pavilion for displaying company literature and posters and conducting meetings;

• Copy of the official 2012 Singapore Air Show Exhibitor's Directory;

• Meetings with Commercial Service aerospace and defense industry specialists from U.S. Embassies and Consulates across Asia;

• Assistance from on-site AESTM program coordinator.

Proposed Timetable

Monday, February 13 | Briefing at the AESTM hotel on program and country/regional market.
| One-on-one business matchmaking appointments Evening reception for U.S. exhibitors.
Tuesday, February 14 | Attend U.S. Pavilion opening with VIP delegates at Singapore Air Show.
| One-on-one meetings on the show floor and walk show floor.
Wednesday, February 13 | One-on-one meetings on the show floor or participants to walk show floor.
| Evening U.S. VIP Reception.
Thursday, February 16-Friday, February 17 | AsiaNow Showtime Program, participants walk show floor, and any follow-up meetings. Friday afternoon AES Trade Mission debrief. Friday evening no host dinner (optional).

Participation Requirements

All parties interested in participating in the AESTM at the Singapore Air Show must complete and submit an application package for consideration by the Department of Commerce. All applicants will be evaluated on their ability to meet certain conditions and best satisfy the selection criteria as outlined below. A maximum of 12 companies will be selected to participate in the mission from the applicant pool. U.S. companies already doing business in Singapore as well as U.S. companies seeking to enter the Singaporean and other Asian markets for the first time may apply.

Fees and Expenses

After a company has been selected to participate on the mission, a payment to the Department of Commerce in the form of a participation fee is required. The participation fee will be $7,400 for large firms and $6,600 for a small or medium-sized enterprise (SME).* The fee for each additional firm representative (large firm or SME) is $500. Expenses for travel to and from Singapore, lodging, most meals, and incidentals will be the responsibility of each mission participant.

* An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

• Each applicant's products must meet the Singapore Air Show trade fair rules, which can be found at http://www.singaporeAirShow.com.sg/.

Selection Criteria for Participation

Selection will be based on the following criteria:

• Suitability of the company's products or services to the market;

• Applicant's potential for business in India and in the region, including likelihood of exports resulting from the mission;

• Consistency of the applicant's goals and objectives with the stated scope of the mission;

Diversity of company size, sector or subsector, and location may also be considered during the review process.

Referrals from political organizations and any documents containing references to partisan political activities (including political contributions) will be removed from an applicant's submission and not considered during the selection process.

Timeframe for Recruitment and Applications

Mission recruitment will be conducted in an open and public manner, including publication in the Federal Register and posting on the Commerce Department trade missions calendar— http://www.ita.doc.gov/doctm/tmcal.html—and other Internet Web sites, publication in domestic trade publications and association newsletters, mailings from internal mailing lists, faxes to internal aerospace clients, e-mails to aerospace distribution lists, and promotion at industry meetings, symposia, conferences, trade shows, and other events. The ITA Aerospace and Defense Technology Team members in U.S. Export Assistance Centers will have the lead in recruiting the AESTM.

Recruitment for the mission will begin immediately and conclude no later than November 28, 2011. The mission will open on a first come first served basis. Applications received after November 28, 2011, will be considered only if space and scheduling constraints permit.

Contacts

Aerospace and Defense Technology Team Contact

Stephanie Heckel, Greensboro U.S. Export Assistance Center, 342 N. Elm Street, Greensboro, NC 27402, Tel: (336) 333-5345, Fax: (336) 333-5158, E-mail: Stephanie.Heckel@trade.gov.

U.S. Commercial Service in Singapore

Hawcheng Ng, American Embassy, 27 Napier Road, Singapore 258508, Tel. 011-(65) 6476-9037, Fax 011-(65) 6476-9080, E-mail: Hawcheng.Ng@trade.gov.

Elnora Moye,
Commercial Service Trade Mission Program, U.S. Department of Commerce.

[FR Doc. 2011-22751 Filed 9-6-11; 8:45 am]

BILLING CODE 3510-FP-P